DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 19, 2024. See Supplementary Information for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 19, 2024, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

Individuals

1. CASTANEDA MEZA, Juan Carlos (Latin: CASTAÑEDA MEZA, Juan Carlos) (a.k.a. “BONQUES BROTHERS”; a.k.a. “CALOCHO”), Mexico; DOB 01 Sep 1977; POB Nayarit, Mexico; nationality Mexico; Gender Male; C.U.R.P. CAMJ770901HNTSZN05 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

2. CASTANEDA MEZA, Giovanni (Latin: CASTAÑEDA MEZA, Giovanni) (a.k.a. “BONQUES BROTHERS”; a.k.a. “BONQUES, Vanni”), Mexico; DOB 08 Aug 1987; POB Nayarit, Mexico; nationality Mexico; Gender Male; C.U.R.P. CAMG870808HNTSZV07 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

3. CASTANEDA MEZA, Ivan Atzayacatl (Latin: CASTAÑEDA MEZA, Ivan Atzayacatl) (a.k.a. “BONQUES BROTHERS”; a.k.a. “BONQUES, Axa”), Mexico; DOB 12 Sep 1984; POB Nayarit, Mexico; nationality Mexico; Gender Male; C.U.R.P. CAMI840912HNTSZV09 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

4. CASTELLANOS MEZA, Roberto (a.k.a. “BONQUES BROTHERS”; a.k.a. “BONQUES, Beto”), Mexico; DOB 06 Jun 1975; POB Nayarit, Mexico; nationality Mexico; Gender Male; C.U.R.P. CAMR750606HNTSZB00 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

5. ARIAS PONCE, Erandiny Jazmin, Mexico; DOB 29 Sep 1990; POB Nayarit, Mexico; nationality Mexico; Gender Female; C.U.R.P. AIPE900929MNTRNR09 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

6. CASTILLO PEINADO, Araceli (a.k.a. “LA DONA” (Latin: “LA DOÑA”)), Mexico; DOB 04 Aug 1982; POB Chihuahua, Mexico; nationality Mexico; Gender Female; C.U.R.P. CAPA820804MCHSNR11 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

7. CASTILLO LOPEZ, Jose Adrian (a.k.a. MEDINA PEREZ, Juan Manual; a.k.a. SALAZAR SALDIVAR, Adrian; a.k.a. “CHEO”; a.k.a. “FRIAS, Adrian”; a.k.a. “GONZALES, Adrian”), Mexico; DOB 21 Dec 1975; POB Nayarit, Mexico; nationality Mexico; Gender Male; C.U.R.P. CALA751221HNTSPD07 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

8. CASTRO ALVAREZ, Jose Sinue, Mexico; DOB 12 Sep 1976; POB Sinaloa, Mexico; nationality Mexico; Gender Male; C.U.R.P. CAAS760912HSLSLN03 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

9. NAVARRO QUEZADA, Luis Alonso (a.k.a. ESTRADA ARIAS, Josue Francisco; a.k.a. “MOJARRAS”; a.k.a. “QUEZADA, Luis”), Mexico; DOB 18 Apr 1986; POB Nayarit, Mexico; nationality Mexico; Gender Male; C.U.R.P. NAQL860418HNTVZS05 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

Lisa M. Palluconi,
Acting Director, Office of Foreign Assets Control.

[FR Doc. 2024-27435 Filed 11-21-24; 8:45 am]

BILLING CODE 4810-AL-P